DEPARTMENT OF HEALTH AND HUMAN SERVICES

National Institutes of Health

Proposed Collection; Comment Request; The National Cancer Institute Information Service Comprehensive Evaluation

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection

Title: The National Cancer Institute Cancer Information Service Comprehensive Evaluation. Type of Information Collection Request: New. Need and Use of Information Collection: The NCI Office of Communications has dedicated resources to the Cancer Information Service Branch to conduct an independent, scientifically designed and implemented evaluation of the Cancer Information Service (CIS), an NCI program that serves as a national resource for information and education about cancer. The study will assess the extend to which the program has been implemented and the impact and outcomes of the program in affecting the public and CIS partners. Partners are national, state, and regional organizations that collaborate with CIS.

For this study, four separate data collection efforts will be conducted: (1) The National User Survey, a survey of a sample of CIS Information Service users; (2) The National Partner Survey, a survey of a sample of CIS networking, education program, and program development partners; (3) The Case Study Partner Survey in-depth interviews with selected partners; and (4) The Case Study Audience Survey, a survey of audiences served by selected partners. The National User Survey, The National Partner Survey, and The Case Study Partner Survey will be collected using telephone interviews. The Case Study Audience Survey will be collected using self-administered paper and pencil surveys of target audiences. The findings will form the basis of annual reports on evaluation findings. These reports will provide assistance in improving the programs, products, and services of CIS. Frequency of Response: One time only with the exception of the Case Study Incidence Survey which includes a pre and post survey. Affected Public: Organizations, individuals and households. Type of Respondents: Adults using CIS services and CIS partners. The annual reporting burden is as follows:

Table 1.—Respondent and Burden Estimate
Type of respondents | Estimated number of respondents | Estimated number of responses of per respondent | Average burden hours per response | Estimated total burden hours requested | Estimated annualized burden (over 3 years)
The National User Survey
Screener respondent | 625 | 1 | 0.08 | 50 | 17
CIS users | 1875 | 1 | 0.42 | 788 | 263
The National Partner Survey
CIS partners | 1000 | 1 | 0.75 | 750 | 250
The Case Study Partner Survey
CIS partners | 24 | 1 | 0.75 | 18 | 6
The Case Study Audience Survey
Event audience | 1200 | 2 | 0.25 | 600 | 200
Total | 4724 |  | 0.45 | 2206 | 736

The annualized cost to respondents is estimated at: $7,592. There are no Capital Cost to report. There are no Operating or Maintenance Costs to report.

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to minimize the burden of the collection of information on those who are to respond, including the use of appropriate automated, electronic, mechanical, or other technological collection techniques or other forms of information technology.

FOR FURTHER INFORMATION CONTACT: To request more information on the proposed project or to obtain a copy of the data collection plans, contact Madeline La Porta, Project Officer for Evaluation, Cancer Information Service Branch, National Cancer Institute, 6116 Executive Boulevard, MSC 8322, Bethesda, Maryland 20892-8322, telephone (301) 594-8025, fax (301) 402-0555.

Comments Due Date

Comments regarding this information collection are best assured of having their full effect if received on or before December 17, 2001.

Dated: October 9, 2001.
Reesa L. Nichols,
NCI Project Clearance Liaison.

[FR Doc. 01-26218 Filed 10-17-01; 8:45 am]

BILLING CODE 4140-01-M